DEPARTMENT OF HEALTH AND HUMAN SERVICES

Centers for Disease Control and Prevention

Disease, Disability, and Injury Prevention and Control

Special Emphasis Panel: Collaborative Program for the Identification and Prevention of Work-Related Musculoskeletal Disorders, Request for Applications: OH-03-006.

In accordance with section 10(a)(2) of the Federal Advisory Committee Act (Pub. L. 92-463), the Centers for Disease Control and Prevention (CDC) announces the following meeting:

Name: Disease, Disability, and Injury Prevention and Control Special Emphasis Panel (SEP): Collaborative Program for the Identification and Prevention of Work-Related Musculoskeletal Disorders, Request for Applications: OH-03-006.

Times and Dates: 8 a.m.-8:40 a.m., July 22, 2003 (Open), 8:40 a.m.-5 p.m., July 22, 2003 (Closed).

Place: Embassy Suites Hotel, 1900 Diagonal Road, Alexandria, VA, 21314, Telephone 703.684.5900.

Status: Portions of the meeting will be closed to the public in accordance with provisions set forth in section 552b(c) (4) and (6), Title 5 U.S.C., and the Determination of the Director, Management Analysis and Services Office, CDC, pursuant to Public Law 92-463.

Matters To Be Discussed: The meeting will include the review, discussion, and evaluation of applications received in response to Request for Applications: OH-03-006.

Contact Person for More Information: Price Connor, Scientific Review Administrator, Office of Extramural Programs, Office of the Director, National Institute for Occupational Safety and Health, CDC, 1600 Clifton Road NE, MS E-74, Atlanta, GA 30333, Telephone 404.498.2511.

The Director, Management Analysis and Services Office, has been delegated the authority to sign Federal Register notices pertaining to announcements of meetings and other committee management activities, for both CDC and the Agency for Toxic Substances and Disease Registry.

Dated: June 26, 2003.
John C. Burckhardt,
Acting Director, Management Analysis and Services Office, Centers for Disease Control and Prevention (CDC).

[FR Doc. 03-16679 Filed 7-1-03; 8:45 am]

BILLING CODE 4163-19-P